DEPARTMENT OF THE TREASURY

Bureau of Engraving and Printing

Environmental Impact Statement (EIS) for Construction and Operation of a Replacement Currency Production Facility at the Beltsville Agricultural Research Center, Prince George's County, MD

AGENCY: Bureau of Engraving and Printing, Department of the Treasury.

ACTION: Notice of Intent (NOI).

SUMMARY: The Department of the Treasury, Bureau of Engraving and Printing (BEP) announces its intent to prepare an Environmental Impact Statement (EIS) under the National Environmental Policy Act (NEPA) for the construction and operation of a replacement currency production facility.

DATES: Comments must be received by December 16, 2019.

ADDRESSES: Written comments may be mailed to: US Army Corps of Engineers, ATTN. Harvey Johnson, Programs and Project Management Division, 2 Hopkins Plaza, 10th Floor, Baltimore, MD 21201, or emailed to: BEP-EIS@usace.army.mil.

FOR FURTHER INFORMATION CONTACT: Harvey Johnson by email at BEP-EIS@usace.army.mil.

SUPPLEMENTARY INFORMATION: BEP is the federal agency tasked with developing and producing United States currency notes and other security documents. BEP currently operates production facilities in Washington, DC and in Fort Worth, Texas for this purpose. The Washington DC facility (DCF) is more than 100 years old and subject to sub-standard conditions that limit BEP's ability to modernize its production operations. These limitations include space, functional, and security deficiencies, in particular, segmented production processes and antiquated systems and equipment. From 2010 through 2017, BEP conducted various studies to evaluate alternative courses of action based on factors such as cost, location, and operational requirements. These investigations concluded that construction of a replacement production facility (vice renovation of the existing DCF) was the most appropriate and cost-effective course of action for BEP to modernize its currency production operations. A 2018 Government Accountability Office (GAO) review concurred with BEP's determination. Once operational, the new facility would phase out BEP's manufacturing operations at its existing Washington, DC facility (DCF); the main building in DC would be renovated for administrative purposes, and the Annex building would be returned to the General Services Administration (GSA). BEP is currently evaluating a potential site at the US Department of Agriculture (USDA) Beltsville Agricultural Research Center (BARC) for development of the new facility. The site's location would meet BEP's siting requirements for being accessible to commercial airports and interstate roadways, and for maintaining a reasonable commuting distance for its existing workforce in Washington, DC. A formal land transfer between BEP and USDA is pending further study of the site.

The EIS will analyze the potential impacts of siting a new BEP currency production facility at the BARC site. At a minimum, the EIS will analyze a No Action Alternative, the impacts of not constructing a replacement production facility at the BARC, and a Proposed Action Alternative. Other reasonable alternatives identified during conceptual design and the NEPA process for this proposed action will also be considered for evaluation in the EIS. Resource areas that will be analyzed in the EIS include: Land use, aesthetics, air quality, noise, geology and soils, water resources, biological resources, cultural resources, socioeconomics and environmental justice, traffic and transportation, utilities, and hazardous and toxic materials/waste. Mitigation measures will be presented in the EIS to reduce potential adverse effects.

The 2018 Farm Bill (Public Law 115-334) provided Congressional authorization for a land transfer between BEP and USDA. BEP is currently evaluating a potential site at the USDA's BARC on which to construct and operate the new facility. The BARC site is located in Beltsville, Prince George's County, Maryland on approximately 105 acres near the intersection of Poultry Road and Powder Mill Road. The site's location meets BEP's siting requirements for being accessible to commercial airports and interstate roadways, and for maintaining a reasonable commuting distance for its current workforce in Washington, DC. A formal land transfer between BEP and USDA is pending further study of the site.

A replacement currency production facility would range in size from approximately 750,000 to 1 million square feet. Such a facility is needed to address the space and functional deficiencies of BEP's existing DCF located at 300 14th Street SW in Washington, DC. The proposed action would allow BEP to modernize and streamline its operational footprint within the National Capital Region (NCR). The proposed action would include siting and orientating the facility to meet specific operational, security, and safety standards, clearing and grading the site, placement of and connection to required utilities and infrastructure, and the phased construction and operation of the new facility. The phased operation of the proposed action would also include the transition or relocation of administrative and manufacturing personnel from BEP's existing DCF. However, the proposed action would not include structural changes to or disposition of any existing BEP facility assets within the NCR, including its current DCF. NEPA compliance for changes to or disposition of these assets will occur at a later date.

The EIS will analyze the potential impacts of siting this facility at the BARC site. At a minimum, the EIS will analyze a No Action Alternative, the impacts of not constructing a replacement production facility at the BARC, and a Proposed Action Alternative. Other reasonable alternatives identified during conceptual design and the NEPA process for BEP's proposed action will also be considered for evaluation in the EIS. Resource areas that will be analyzed in the EIS include: Land use, aesthetics, air quality, noise, geology and soils, water resources, biological resources, cultural resources, socioeconomics and environmental justice, traffic and transportation, utilities, and hazardous and toxic materials/waste. Mitigation measures will be presented in the EIS to reduce potential adverse effects.

The public is invited to participate in the scoping process. The scoping process begins with the publication of this Notice of Intent in the Federal Registerand will last for 30 days. The scoping process will include a public scoping meeting, which is an opportunity for the public to receive information about the proposed action and assist BEP in identifying issues related to the proposed action. This meeting will take place near the BARC in Beltsville, Maryland; the specific details of the meeting will be announced in local media at least 2 weeks in advance. The public will also be invited to review and comment on the Draft EIS when it is available for review. Comments from the public will be considered before any decision is made regarding implementation of the proposed action.

David F. Eisner,
Assistant Secretary for Management.

[FR Doc. 2019-24802 Filed 11-14-19; 8:45 am]

BILLING CODE 4840-01-P